NUCLEAR REGULATORY COMMISSION

[Docket No. 50-247]

Entergy Nuclear Indian Point 2, LLC; Entergy Nuclear Operations, Inc.; Notice of Withdrawal of Application for Amendment to Facility Operating License No. DPR-26 Indian Point Nuclear Generating Unit No. 2

The U.S. Nuclear Regulatory Commission (the Commission) has granted the request of Entergy Nuclear Operations, Inc. (the licensee) to withdraw its March 22, 2007, application for proposed amendment to Facility Operating License No. DPR-26 for Indian Point Nuclear Generating Unit No. 2, located in Westchester County, New York.

The proposed amendment would have revised the test acceptance criteria for the emergency diesel generators endurance test.

The Commission had previously issued a Notice of Consideration of Issuance of Amendment published in the Federal Register on April 10, 2007 (72 FR 17947). However, by letter dated April 10, 2008, the licensee withdrew the proposed change.

For further details with respect to this action, see the application for amendment dated March 22, 2007, and the licensee's letter dated April 10, 2008, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 24th day of April 2008.
For the Nuclear Regulatory Commission.
John P. Boska,
Senior Project Manager, Plant Licensing Branch I-1, Division of Operating Reactor Licensing, Office of Nuclear Reactor Regulation.

[FR Doc. E8-9586 Filed 4-30-08; 8:45 am]

BILLING CODE 7590-01-P